FEDERAL COMMUNICATIONS COMMISSION

47 CFR Part 73

[DA 00-866; MM Docket No. 90-466; RM-7327, RM-7987, RM-7988, RM-8705].

Radio Broadcasting Services; Pleasanton, Bandera, Hondo, Hollywood Park, and Dilley, Texas

AGENCY: Federal Communications Commission.

ACTION: Final rule; petition for reconsideration.

SUMMARY: The Commission dismisses as moot the Application for Review filed by Reding Broadcasting Company, requesting reconsideration of a dismissal of its proposal to substitute Channel 252A for Channel 253C2 at Pleasanton, TX, substitute Channel 253A for Channel 290A at Hondo, TX and Channel 252A for Channel 276A at Bandera, TX. Petitioner received requested relief in MM Docket No. 98-55.

FOR FURTHER INFORMATION CONTACT: Victoria M. McCauley, Mass Media Bureau, (202) 418-2180.

SUPPLEMENTARY INFORMATION: This is a synopsis of the Commission's Order, MM Docket No. 90-466 adopted April 12, 2000, and released April 14, 2000. The full text of this Commission decision is available for inspection and copying during normal business hours in the FCC Information Center (Room CY-A257), 445 12th Street, SW, Washington, DC. The complete text of this decision may also be purchased from the Commission's copy contractor, International Transcription Services, Inc., (202) 857-3800, 1231 20th Street, NW, Washington, DC 20036.

Federal Communications Commission.
John A. Karousos,
Chief, Allocations Branch, Policy and Rules Division, Mass Media Bureau.

[FR Doc. 00-13138 Filed 5-24-00; 8:45 am]

BILLING CODE 6712-01-P